DEPARTMENT OF JUSTICE

Notice of Lodging of Settlement Stipulation Under the Comprehensive Environmental Response, Compensation and Liability Act

Notice is hereby given that on July 7, 2004, a proposed Settlement Agreement in In re Pittsburgh-Canfield Corporation, et al., Case Nos. 00-43394—00-43402 (Bankr. N.D. Ohio), was lodged with the United States Bankruptcy Court for the Northern District of Ohio.

In this action the United States filed a proof of claim against the estate of debtor Wheeling-Pittsburgh Corporation for the recovery of response costs incurred, under Section 104(a) of the Comprehensive Environmental Response, Compensation and Liability Act, as amended (“CERCLA”), 42 U.S.C. 9604(a), at the Breslube-Penn Superfund Site near Pittsburgh, Pennsylvania and at the Four County Landfill Site in Fulton County, Indiana. The United States' proof of claim was for an unliquidated amount. Under the proposed settlement, the United States will receive, on behalf of the United States Environmental Protection Agency, an allowed claim in the amount of $1,500,000 for its response costs at the Breslube-Penn Site and an allowed claim of $50,000 for its response costs at the Four County Landfill Site.

The Department of Justice will receive for a period of thirty (30) days from the date of this publication comments relating to the proposed Settlement Agreement. Comments should be addressed to the Assistant Attorney General for the Environment and Natural Resources Division, P.O. Box 7611, U.S. Department of Justice, Washington, DC 20044-7611, and should refer to In re Pittsburgh-Canfield Corporation, DJ No. 90-7-1-06977/1.

The proposed Settlement Agreement may be examined at the office of the United States Attorney, Northern District of Ohio, 801 W. Superior Avenue, Suite 400, Cleveland, Ohio 44113 and at the Region III Office of the Environmental Protection Agency, 1650 Arch St., Philadelphia, Pennsylvania 19103. During the public comment period, the Stipulation and Agreement may also be examined on the following Department of Justice Web site, http://www.usdoj.gov/enrd/open.html. A copy of the Stipulation and Agreement may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $3.25 (25 cents per page reproduction cost) payable to the U.S. Treasury. In all correspondence, please refer to the case by its title and DOJ Ref. # 90-7-1-06977/1.

Robert D. Brook,
Assistant Chief, Environmental Enforcement Section, Environment and Natural Resources Division.

[FR Doc. 04-15997 Filed 7-14-04; 8:45 am]

BILLING CODE 4410-15-M